DEPARTMENT OF TRANSPORTATION

Federal Aviation Administration

14 CFR Part 71

[Docket No. FAA-2005-21141; Airspace Docket No. 05-AEA-11]

Amendment of Class E Airspace; Brunswick, ME; Correction

AGENCY: Federal Aviation Administration (FAA), DOT.

ACTION: Direct final rule; correction, delay of effective date.

SUMMARY: This action corrects a final rule published in the Federal Register on May 25, 2005 (70 FR 29943-29944). In that rule, the description of the designated airspace contained errors and omissions. Action to correct these errors and omissions result in a delay of the effective date. This action corrects the final rule and effective date. The correct effective date is October 27, 2005.

EFFECTIVE DATES: 0901 UTC, October 27, 2005.

FOR FURTHER INFORMATION CONTACT: Mr. Francis Jordan, Airspace Specialist, Airspace and Operations, ETSU-530, Eastern Terminal Service Unit, Eastern Region, Federal Aviation Administration, 1 Aviation Plaza, Jamaica, New York 11434-4809, telephone: (718) 553-4521.

SUPPLEMENTARY INFORMATION: On May 25, 2005, Docket No. FAA-2005-21141; Airspace Docket 05-AEA-11 (70 FR 29943-2944) was published amending Class E airspace at Brunswick, ME. In that rule, the description of the designated airspace omitted one airspace extension from the Brunswick Naval Air Station (NAS) and described in error one airspace extension from the Wiscasset Airport. Action to correct these errors and omissions result in delay of the effective date. This action corrects these errors and omissions and establishes an effective date.

Correction to Final Rule

Accordingly, pursuant to the authority delegated to me, Docket No. FAA-2005-21141; Airspace Docket No. 05-AEA-11, as published in the Federal Register on May 25, 2005, (70 FR 29943-29944) is corrected as follows:

On page 29943, correct the effective date to read October 27, 2005.

On page 29944, correct:

PART 71—[CORRECTED]

§ 71.1 [Amended]

Paragraph 6005 Class E airspace areas extending upward from 700 feet or more above the surface of the earth.

* * * * *

ANE ME E5 Brunswick, ME [Revised]

Brunswick NAS, ME

(Lat. 43°53′32″ N, long. 69°56′19″ W)

Wiscasset Airport, ME

(Lat. 43°57′40″ N, long. 69°42′48″ W)

That airspace extending upward from 700 feet above the surface within a 7.8-mile radius of Brunswick NAS and within 4 miles each side of the 177° bearing from the Brunswick NAS extending from the 7.8-mile radius to 10 miles south of the airport and within 4 miles each side of the 357° bearing from the Brunswick NAS extending from the 7.8-mile radius to 10 miles north of the airport and within an 8.4-mile radius of Wiscasset Airport and within 4 miles south and 6 miles north of the 069° bearing from the Wiscasset Airport extending from the 8.4-mile radius to 15.5 miles east of the airport.

* * * * *

Issued in Jamaica, New York on July 28, 2005.
John G. McCartney,
Acting Area Director, Eastern Terminal Operations.

[FR Doc. 05-15461 Filed 8-4-05; 8:45 am]

BILLING CODE 4910-13-M